DEPARTMENT OF JUSTICE

Notice of Consent Judgments Pursuant to The Comprehensive Environmental Response, Compensation and Liability Act

In accordance with Departmental Policy, 28 CFR 50.7, 38 FR 19029, and 42 U.S.C. 9622(d), notice is hereby given that a proposed Consent Decree in United States v. Cornell University, Civ. No. 00-CV-0121 (NAM), DOJ # 90-11-2-2/3, was lodged in the United States District Court for the Northern District of New York on January 21, 2000. The Consent Decree resolves the liability of defendant under section 107(a) of the Comprehensive Environmental Response, Compensation and Liability Act (“CERCLA”), 42 U.S.C. 9607(a), relating to the Pollution Abatement Services Superfund Site in Oswego, New York (the “Site”).

Under the proposed consent decree, Cornell will cash out its liability for the Site, subjects to reopeners, by paying to the United States the sum of $30,000 in partial reimbursement of EPA's past response costs and paying $335,500 toward future operable unit 3 (“OU3”) Site costs to the responsible parties who are performing OU3 under an earlier consent decree. In exchange for the work and payment of response costs, Defendants will receive a covenant not to sue for response actions at the Site subject to certain reservations of rights.

The Department of Justice will receive, for a period of thirty (30) days from the date of this publication, written comments relating to the proposed Consent Decree. Comments should be addressed to the Assistant Attorney General for the Environment and Natural Resources Division, Department of Justice, Washington, D.C. 20530, and should refer to United States v. Cornell University, Civ. No. 00-CV-0121 (NAM), DOJ # 90-11-2-2/3.

The proposed Consent Decree may be examined at the Office of the United States Attorney, Northern District of New York, James Foley U.S. Courthouse, 445 Broadway, Room 231, Albany, New York 12207; and at the Region II Office of the U.S. Environmental Protection Agency, 290 Broadway, New York, New York 10278. Copies of the Consent Decree may be obtained by mail from the consent Decree Library, United States Department of Justice, PO Box 7611 Ben Franklin Station, Washington, DC 20044, (202) 514-1547. In requesting a copy, please enclose a check in the amount of $5.25 (25 cents per page reproduction costs) payable to the Consent Decree Library.

Joel M. Gross,
Environmental Enforcement Section, Environment and Natural Resources Division.

[FR Doc. 00-3114 Filed 2-9-00; 8:45 am]

BILLING CODE 4410-15-M